DEPARTMENT OF THE INTERIOR

National Park Service

[NPS-WASO-NRNHL-0311-6957; 2280-665]

National Register of Historic Places; Notification of Pending Nominations and Related Actions

Nominations for the following properties being considered for listing or related actions in the National Register were received by the National Park Service before March 12, 2011. Pursuant to § 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service,1201 Eye St., NW., 8th floor, Washington DC 20005; or by fax, 202-371-6447. Written or faxed comments should be submitted by April 14, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Gila County

La Santa Cruz de Globe, Hilltop in Ruiz Canyon, E of Navarro Dr and W of Side Canyon, Globe, 11000205

Maricopa County

Eisendrath, Rose, House, 1400 N College Ave, Tempe, 11000206

CALIFORNIA

Sonoma County

Healdsburg Memorial Bridge, (Highway Bridges of California MPS) Healdsburg Ave, junction of Front St, Healdsburg, 11000214

MICHIGAN

Marquette County

Sundberg Block, 517-523 Iron St, Negaunee, 11000196

MISSOURI

Jackson County

Lee's Summit Christian Church Building, SE Douglas and SE Fourth Sts, Lee's Summit, 11000213

Southeast Grand Ave and Fifth St Residential Historic District, (Lee's Summit, Missouri MPS) Roughly comprised of E side of SE Grand between SE 4th and SE 5th and N side of SE 5th between SE Grand and SE Howard, Lee's Summit, 11000216

McDonald County

Powell Bridge, .04 mi SW of Powell on Cowan Ridge Rd off HWY E, Powell, 11000215

NEVADA

Clark County

B-29 Serial No. 45-21847, (Heavy Bomber), Lake Mead National Recreation Area, Overton, 11000212

NORTH CAROLINA

Guilford County

Model Farm, 2058 Brentwood St, High Point, 11000208

Halifax County

St. Alban's Episcopal Church, 300 Mosby Ave, NC, 11000209

Randolph County

Sunset Theater, 232, 234, 236 Sunset Ave, Asheboro, 11000210

PENNSYLVANIA

Allegheny County

McCook Family Estate, 5105 Fifth Ave, 925 Amberson Ave, Pittsburg City, 11000197

Wilpen Hall, 889-895 Blackburn Rd; 201 Scaife Rd, Sewickley Heights, 11000201

Bucks County

Quakertown Historic District, Roughly bounded by Main and Broad Sts, Hellertown, Tichikon, and Park Aves, Quakertown, 11000200

Huntingdon County

Robb Farm, 11023 Hartslog Valley Rd (SR 3039), Walker Township, 11000202

Lebanon County

Alden Villa, 1012 Alden Way, Cornwall Borough, 11000203

Philadelphia County

Anderson, Marian, House, 762 S Martin St, Philadelphia, 11000198

Tindley Temple United Methodist Church, (African American Churches of Philadelphia 1787-1949 MPS) 750-762 S Broad St, Philadelphia, 11000199

RHODE ISLAND

Kent County

Spencer—Shippee—Lillbridge House, 12 Middle Rd, East Greenwich, 11000207

TEXAS

Travis County

Federal Office Building, 300 E 8th St, Austin, 11000211

WISCONSIN

Winnebago County

Whiting, Frank, Boathouse, 98 Fifth St, Neenah, 11000204

OTHER ACTIONS

Request for REMOVAL has been made for the following resources:

OREGON

Linn County

Angell-Brewster House, 34191 Brewster Rd, Lebanon, 92001330

TENNESSEE

Washington County

Memorial Stadium, Intersection of E Main St and Lonnie Lowe Ln, Johnson City, 10000472

[FR Doc. 2011-7392 Filed 3-29-11; 8:45 am]

BILLING CODE 4312-51-P